DEPARTMENT OF COMMERCE

Bureau of Industry and Security

Agency Information Collection Activities; Submission to the Office of Management and Budget (OMB) for Review and Approval; Comment Request; Request for Investigation Under Section 232 of the Trade Expansion Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 19, 2024, during a 60-day comment period. This notice allows for an additional 30 days for public comments.

Agency: Bureau of Industry and Security, Commerce.

Title: Request for Investigation under Section 232 of the Trade Expansion Act.

OMB Control Number: 0694-0120.

Form Number(s): None.

Type of Request: Regular submission, extension of a current information collection.

Number of Respondents: 800.

Average Hours per Response: 15 hours.

Burden Hours: 12.000.

Needs and Uses: Upon request, BIS will initiate an investigation to determine the effects of imports of specific commodities on the national security and will make the findings known to the President for possible adjustments to imports through tariffs. The findings are made publicly available and are reported to Congress. The purpose of this collection is to account for the public burden associated with the surveys distributed to determine the impact on national security.

These surveys are designed to gather information so that BIS can evaluate the impact of foreign imports of strategic commodities on the national security of the United States. Each Section 232 study is for a specific commodity or technology that is required for national security reasons (e.g., precision bearings, microprocessors, machine tools, etc). These surveys attempt to determine the size of the domestic U.S. industry, how the domestic U.S. industry has been affected by foreign imports, demand for the commodity during peacetime, demand during wartime, the ability of the U.S. domestic industry to meet a surge in demand during wartime, and the potential impact on U.S. national security if wartime demand cannot be met by domestic U.S. suppliers.

Affected Public: Business or other for-profit organizations.

Frequency: On Occasion.

Respondent's Obligation: Mandatory.

Legal Authority: Section 232 of the Trade Expansion Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0120.

Sheleen Dumas,
Departmental PRA Clearance Officer, Office of the Under Secretary for Economic Affairs, Commerce Department.

[FR Doc. 2024-19302 Filed 8-27-24; 8:45 am]

BILLING CODE 3510-33-P